DEPARTMENT OF TRANSPORTATION

Surface Transportation Board

Notice of Public Information Collection Submitted to OMB for Review

AGENCY: Surface Transportation Board, DOT.

ACTION: Extension of a currently approved collection.

SUMMARY: The Surface Transportation Board has submitted to the Office of Management and Budget for review and approval the following proposal for collection of information as required by the Paperwork Reduction Act of 1995, Public Law 104-13 (44 U.S.C. Chapter 35).

Title: System Diagram Maps.

OMB Form Number: 2140-0003.

No. of Respondents: 38.

Total Burden Hours: 76.

DATES: Persons wishing to comment on this information collection should submit comments by July 31, 2000.

ADDRESSES: Direct all comments to Case Control, Surface Transportation Board, Room 705, 1925 K Street, NW., Washington, DC 20423. When submitting comments refer to the OMB number and title of the information collection.

FOR FURTHER INFORMATION CONTACT: Charles L. Renninger, 202 565-1631. Requests for copies of the information collection may be obtained by contacting Ellen R. Keys (202) 565-1654.

SUPPLEMENTARY INFORMATION: The Surface Transportation Board is, by statute, responsible for the economic regulation of surface transportation carriers operating in interstate and foreign commerce. The ICC Termination Act of 1995, Public Law 104-88, 109 Stat. 803 (1995), which took effect on January 1, 1996 abolished the Interstate Commerce Commission and transferred the responsibility for regulating rail transportation, including the proposed abandonment and discontinuance of rail lines, to the Surface Transportation Board. All railroads are required to keep current system diagram maps on file. These maps designated all lines in a particular railroad's sytem according to various categories. Carriers are obligated to amend these maps as the need to change the caregories of particular lines arose. If no amendment had taken place within a one-yer period, a verified statement to that effect must be filed with the Board. The Board will use this information to facilitate informed decision making. Respondents will be railroads initiating abandonment exemption proceedings.

Dated June 22, 2000.
Vernon A. Williams,
Secretary.

[FR Doc. 00-16705 Filed 6-30-00; 8:45 am]

BILLING CODE 4915-00-P